DEPARTMENT OF TRANSPORTATION

Federal Highway Administration

[Docket No. FHWA-2024-0031]

Agency Information Collection Activities: Notice of Request for Revision of a Currently Approved Information Collection

AGENCY: Federal Highway Administration (FHWA), DOT.

ACTION: Notice of request for revision of a currently approved information collection.

SUMMARY: The FHWA has forwarded the information collection request described in this notice to the Office of Management and Budget (OMB) for a renewal of an existing information collection. We are required to publish this notice in the Federal Register by the Paperwork Reduction Act of 1995.

DATES: Please submit comments by June 3, 2024.

ADDRESSES: You may submit comments identified by DOT Docket ID Number 0031 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Daniel Jenkins, 202-366-1067, Daniel.jenkins@dot.gov, National Travel Behavior Data Program Manager, Federal Highway Administration, Office of Policy, 1200 New Jersey Avenue SE, Room E83-414, Washington, DC 20590, Monday through Friday, except Federal holidays.

SUPPLEMENTARY INFORMATION: We published a Federal Register Notice with a 60-day public comment period on this information collection on December 14, 2023, at [88 FR 86719]. The comments and FHWA's responses to the 60-day notice are below:

Comment 1

I admire embracing the internet as a survey tool. Too often the decrease in landline usage has been seen as the harbinger of the survey's death. Taking advantage of changing technology, not only the internet but also smartphones, points to intelligent survey design and strategy. Also, the estimated total number of burden hours makes sense and parallels the importance of these survey results in evaluating transit in the United States. I would be curious to learn if the initial offer of 2 dollars is enough to garner the interest of most survey takers, and how much total money is earmarked for compensating survey takers. I agree that 2 dollars is a better incentive than nothing, but I fear the number might not be enticing enough for most survey takers. Of course, the total compensation for completing the survey is 20 dollars, so perhaps that might be enough incentive even if the initial offering appears minute. I am also curious as to what determines the frequency of these surveys and perhaps the final proposal could briefly explain the history of past surveys and how the USDOT determines when another survey is due. In any case, I think the survey as proposed holds tremendous importance for federal and state agencies, especially in the face of climate change. Climate change is already impacting how Americans move, from the buying of electric cars to the shunning of a walk outside because the heat is too intense, and gaining knowledge about these changing trends could help us embrace a greener future.

DOT Response

Incentives: The amount to offer as an initial incentive was tested as part of the 2022 NHTS pilot. In that test, the initial amount varied between $2 and $5. The difference in participation levels between the two groups was 1.7%, suggesting that the $2 incentive was strong enough to elicit participation from the general public.

Title: 2024 Next Generation National Household Travel Survey (NextGen NHTS).

OMB Control: 2125-0545.

Background: Title 23, United States Code, Section 502 authorizes the USDOT to carry out advanced research and transportation research to measure the performance of the surface transportation systems in the US, including the efficiency, energy use, air quality, congestion, and safety of the highway and intermodal transportation systems. The USDOT is charged with the overall responsibility to obtain current information on national patterns of travel, which establishes a data base to better understand travel behavior, evaluate the use of transportation facilities, and gauge the impact of the USDOT's policies and programs.

The NHTS is the USDOT's authoritative nationally representative data source for daily passenger travel. This inventory of travel behavior reflects travel mode (e.g., private vehicles, public transportation, walk and bike) and trip purpose (e.g., travel to work, school, recreation, personal/family trips) by U.S. household residents. Survey results are used by federal and state agencies to monitor the performance and adequacy of current facilities and infrastructure, and to plan for future needs.

The collection and analysis of national transportation data has been of critical importance for more than half a century. Previous surveys were conducted in 1969, 1977, 1983, 1990, 1995, 2001, 2009, 2017 and 2022. The current survey will be the tenth in this series, and allow researchers, planners, and officials at the state and federal levels to monitor travel trends.

Data from the NHTS are widely used to support research needs within the USDOT, and State and local agencies, in addition to responding to queries from Congress, the research community and the media on important issues. Current and recent topics of interest include:

• Travel to work patterns by transportation mode for infrastructure improvements and congestion reduction,

• Access to public transit, paratransit, and rail services by various demographic groups,

• Measures of travel by mode to establish exposure rates for risk analyses,

• Support for Federal, State, and local planning activities and policy evaluation,

• Active transportation by walk and bike to establish the relationship to public health issues,

• Vehicle usage for energy consumption analysis,

• Traffic behavior of specific demographic groups such as Millennials, Gen Z, and the aging population.

Within the USDOT, the Federal Highway Administration (FHWA) holds responsibility for technical and funding coordination. The National Highway Traffic Safety Administration (NHTSA), Federal Transit Administration (FTA), and the Bureau of Transportation Statistics (BTS) are also primary data users and have historically participated in project planning and financial support.

Proposed Data Acquisition Methodology

NHTS data are collected from a stratified random sample of households that represent a broad range of geographic and demographic characteristics. Letters and postcards are sent to selected households requesting some basic demographic and contact information and inviting them to participate in the diary survey. The recruitment survey is completed on the study website.

Households who complete the recruitment survey are subsequently invited to complete a diary survey. All household members aged 5 and older are eligible. The household is assigned to record their travel on a specific day and asked to note every trip taken during a 24-hour period. Based upon their preferences, the travel information is then reported through a survey website, a smartphone app., or through a telephone interview.

Reminders are sent periodically to households who do not respond within the expected timeframe. Monetary incentives are provided in increasing amounts for all households that complete the survey.

The survey will collect data during an entire 12-month period so that all 365 days of the year including weekends and holidays are accounted for. A total of 7,500 households will comprise the national sample for the 2024 survey.

Issues Related to Sampling. The sampling design reflects the U.S. household trends of decreasing landline telephone ownership and increasing access to the internet. The 2024 NextGen NHTS will leverage this shift in technology, in particular the move away from home telephone usage, to structure a research design that uses mail, web, smartphone app. and telephone data collection modes. The methodological approach starts with a national address-based sample (ABS).

The survey sample will be drawn from the ABS frame maintained by Marketing Systems Group (MSG). It originates from the U.S. Postal Service (USPS) Computerized Delivery Sequence file (CDS) and is updated on a monthly basis. MSG also provides the ability to match some auxiliary variables (e.g., race/ethnicity, education, household income) to a set of sampled addresses. MSG geocodes their entire ABS frame, so block-, block group-, and tract-level characteristics from the Decennial Census and the American Community Survey (ACS) may be appended to addresses and used for sampling and/or data collection purposes.

Sample Size. Completed surveys will be obtained from a nationally representative sample of 7,500 households. Assuming response rates of 26 percent for the recruitment stage, 60 percent at the diary stage, and a residency rate of 92 percent for sampled addresses, a total of 52,258 sampled addresses will be required to attain the targeted 7,500 responding households.

Stratification. The sample will be stratified by Census Division and urban/rural classification (18 strata total). The target sample size (of responding households) will then be initially allocated among the strata according to the proportion of addresses falling in the stratum determined by the counts of addresses from the American Community Survey (ACS).

With the ABS approach, identifying targeted areas that correspond to those for which estimates can be developed from the NHTS data are straightforward. Geocoding and GIS processing can be used to link addresses to states and counties in a highly reliable fashion. There can be some ambiguity for addresses that are P.O. boxes or are listed as rural route addresses. These can be handled in a routine manner with a set of well-defined rules as such addresses will represent only a small proportion of the population. Thus, no important issues arise in the definition of areas with an ABS sample design that relies on mail for initial contact, as is the case with the proposed approach.

Assignments for recording travel data by sampled households will be equally distributed across all days to ensure a balanced day-of-week distribution. The sample (of recruitment letters to households) will be released periodically through a process that will control the balance of travel days by month.

Data Collection Methods

An updated approach to enhancing survey response has been developed. This includes providing progressive monetary incentives and using a mail with push-to-web recruitment survey that is just 5 minutes in length. Upon completing the recruitment survey, household members aged 5 and older are offered the opportunity to provide their travel on an assigned travel day via a smartphone app. or web using a unique personal identification number (PIN) or telephone interview.

Information Proposed for Collection

Recruitment. The survey will begin with mailing the sampled households an initial invitation letter followed by postcard and letter reminders. The letter will contain a $2 cash incentive per household and promised incentives (up to $20 per person) to encourage diary completion. Participants will complete the recruitment survey on the web. The survey is designed to collect key household information (e.g., enumeration of household members), basic demographic characteristics (e.g., age, gender, etc.), and personal contact information (e.g., email address and telephone number). To support recruitment, the study will provide a toll-free number on survey materials. The study website will provide responses to likely questions and will serve as the portal to the survey.

Diary Retrieval. The travel day diary data will be collected from respondents either from self-reporting via the web or a smartphone app., or from professionally trained interviewers using a computer-assisted telephone interviewing (CATI) system. The questionnaire and back-end systems allow for sophisticated branching and skip patterns to enhance data retrieval by asking only those questions that are necessary and appropriate for the individual participant. Look-up tables are included at the back end to assist with information such as vehicle makes and models. Google API is used to assist in identifying specific place names and locations. The location data for the participant's home, workplace, or school are stored and automatically inserted in the dataset for trips after the first report. Household rostering is a list of all vehicles and persons in the household that allows a trip to be reported from one household member and can include another household member who travel together to be inserted into the record for the second person. This automatic insert of information reduces the burden of the second respondent to be queried about a trip already reported by the initial respondent.

Data range, consistency and edit checks are automatically programmed to reduce reporting errors, survey length, and maintain the flow of information processing. Data cross checks also help reduce the burden by ensuring that the reporting is consistent within each trip.

The study website and web instrument will be reviewed for Section 508 compliance using the rules specified in sections 1194.22—`Web-based intranet and internet information and applications' and 1194.23—`Telecommunications products.' All materials will be available in both English and Spanish language forms. Spanish translations will be developed using industry standards and will apply reverse- translation protocols.

Respondents: A stratified random sample of 7,500 households across the 50 states and the District of Columbia will be included in the survey. Household will include an average of 2.5 members for a total of 18,750 individual respondents 5 years and older to the diary survey.

Frequency: This is a periodic study last conducted in 2022.

Estimated Average Burden per Response: It will take approximately 5 minutes per household member to complete the recruitment survey, and 20 minutes per eligible household member to complete the diary survey.

Estimated Total Annual Burden Hours: It is estimated that a total of 29,375 persons will complete the survey. This includes 5,000 persons in households who completed just the recruitment survey and did not participate in the diary survey and 16,125 persons who completed both the recruitment and diary surveys. This results in approximately 6,417 hours of support for this data collection effort assuming an average of 5 minutes per household for the recruitment, and 20 minutes per household member (aged 5 and older) for the diary survey.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: April 27, 2024.
Jazmyne Lewis,
Information Collection Officer.

[FR Doc. 2024-09516 Filed 5-1-24; 8:45 am]

BILLING CODE 4910-22-P